DEPARTMENT OF COMMERCE

National Oceanic and Atmospheric Administration

[RTID 0648-XC130]

Mid-Atlantic Fishery Management Council (MAFMC); Public Meeting

AGENCY: National Marine Fisheries Service (NMFS), National Oceanic and Atmospheric Administration (NOAA), Commerce.

ACTION: Notice; public meeting.

SUMMARY: The Scientific and Statistical Committee (SSC) of the Mid-Atlantic Fishery Management Council (Council) will hold a meeting.

DATES: The meeting will be held on Monday, July 25, 2022, starting at 10 a.m. and continue through 1 p.m. on Tuesday, July 26, 2022. See SUPPLEMENTARY INFORMATION for agenda details.

ADDRESSES: The meeting will be conducted in a hybrid format, with options for both in-person and webinar participation. The meeting will be held at the Baltimore Marriott Waterfront, 700 Aliceanna Street, Baltimore, MD 21202. Details on how to connect to the webinar by computer and by telephone will be available at: www.mafmc.org/ssc.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will review and provide science and research advice on the results from the recently completed Surfclam genetics study. The SSC will make an initial 2023 fishing year acceptable biological catch (ABC) recommendation for Illex squid based on the research track stock assessment peer review results and the most recent fishery and survey information. The SSC will also make multi-year (2023-2024) ABC recommendations for Butterfish based on the results of the recently completed management track stock assessment. The SSC will get an update on recent Council action on the recreational harvest control rule framework. The SSC will review the most recent survey and fishery data and the previously recommended 2023 ABC for Summer Flounder, Scup, Black Sea Bass, and Bluefish. The SSC will also review and provide comments on the draft Northeast Regional Climate Strategy Action Plan. The SSC may take up any other business as necessary.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

Dated: June 23, 2022.
Tracey L. Thompson,
Acting Deputy Director, Office of Sustainable Fisheries, National Marine Fisheries Service.

[FR Doc. 2022-13749 Filed 6-27-22; 8:45 am]

BILLING CODE 3510-22-P